DEPARTMENT OF STATE

[Public Notice 4069]

Office of Global Educational Programs (ECA/A/S); 30-Day Notice of Proposed Information Collection: Fulbright Teacher and Administrator Exchange Program Application Package; Forms DS-4500, 4501, 4502, 4503, 4504, 4505, 4506; OMB Number 1405-0114

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Reinstatement with change of a previously approved collection for which approval has expired.

Originating Office: Office of Global Educational Programs (ECA/A/S).

Title of Information Collection: Fulbright Teacher and Administrator Exchange Program Application Package.

Frequency: Annual.

Form Number: DS-4500, 4501, 4502, 4503, 4504, 4505, and 4506.

Respondents: Educators desiring to participate in the Fulbright Teacher and Administrator Exchange Program.

Estimated Number of Respondents: 862.

Average Hours Per Response: 2.

Total Estimated Burden: 1724.

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER INFORMATION CONTACT: Copies of the proposed information collection and supporting documents may be obtained from U.S. Department of State, SA-44, Room 349; 301 Fourth St., SW; Washington, DC 20547. Public comments and questions should be directed to the State Department Desk Officer, Office of Information and Regulatory Affairs, Office of Management and Budget (OMB), Washington, DC 20530, who may be reached on 202-395-3897.

Dated: July 9, 2002.
James D. Whitten,
Executive Director, Bureau of Educational and Cultural Affairs, Department of State.

[FR Doc. 02-18723 Filed 7-23-02; 8:45 am]

BILLING CODE 4710-05-P